DEPARTMENT OF HEALTH AND HUMAN SERVICES

National Institutes of Health

Center for Scientific Review; Amended Notice of Meeting

Notice is hereby given of a change in the meeting of the Clinical Molecular Imaging and Probe Development, June 3, 2010, 8 a.m. to June 3, 2010, 5 p.m., Little America Hotel, 500 South Main Street, Salt Lake City, UT 84101 which was published in the Federal Register on May 7, 2010, 75 FR 25273-25275.

The meeting will be held June 2, 2010, 7 p.m. to June 4, 2010, 4 p.m. The meeting location remains the same.

The meeting is closed to the public.

Dated: May 10, 2010.
Jennifer Spaeth,
Director, Office of Federal Advisory Committee Policy.

[FR Doc. 2010-11590 Filed 5-13-10; 8:45 am]

BILLING CODE 4140-01-P